DEPARTMENT OF ENERGY

Federal Energy Regulatory Commission

Combined Notice of Filings #2

Take notice that the Commission received the following exempt wholesale generator filings:

Docket Numbers: EG15-79-000.

Applicants: Cameron Wind I, LLC.

Description: Notice of Self-Certification of Exempt Wholesale Generator Status of Cameron Wind I, LLC.

Filed Date: 5/1/15.

Accession Number: 20150501-5227.

Comments Due: 5 p.m. ET 5/22/15.

Docket Numbers: EG15-80-000.

Applicants: 67RK 8me LLC.

Description: Notice of Self-Certification of Exempt Wholesale Generator Status of 67RK 8me LLC.

Filed Date: 5/1/15.

Accession Number: 20150501-5325.

Comments Due: 5 p.m. ET 5/22/15.

Docket Numbers: EG15-81-000.

Applicants: 65HK 8me LLC.

Description: Notice of Self-Certification of Exempt Wholesale Generator Status of 65HK 8me LLC.

Filed Date: 5/1/15.

Accession Number: 20150501-5327.

Comments Due: 5 p.m. ET 5/22/15.

Take notice that the Commission received the following electric rate filings:

Docket Numbers: ER11-3460-008; ER12-1301-006.

Applicants: Bayonne Energy Center, LLC, Zone J Tolling Co., LLC.

Description: Notice of Non-Material Change In Status of Bayonne Energy Center, LLC, et. al.

Filed Date: 5/1/15.

Accession Number: 20150501-5308.

Comments Due: 5 p.m. ET 5/22/15.

Docket Numbers: ER12-673-007; ER12-672-007; ER10-1533-011; ER10-2374-009; ER12-674-008; ER12-670-008, ER15-359-004.

Applicants: Brea Generation LLC, Brea Power II, LLC, Macquarie Energy LLC, Puget Sound Energy, Inc., Rhode Island Engine Genco, LLC, Rhode Island LFG Genco, LLC, Samchully Power & Utilities 1 LLC.

Description: Notice of Non-Material Change in Status of Brea Generation LLC, et. al.

Filed Date: 5/1/15.

Accession Number: 20150501-5357.

Comments Due: 5 p.m. ET 5/22/15.

Docket Numbers: ER15-1627-000.

Applicants: PJM Interconnection, L.L.C.

Description: Section 205(d) rate filing per 35.13(a)(2)(iii): Beech Ridge Energy Service Agreements 3086, 3087, and 4118; Queue M24 to be effective 3/31/2015.

Filed Date: 5/1/15.

Accession Number: 20150501-5000.

Comments Due: 5 p.m. ET 5/22/15.

Docket Numbers: ER15-1628-000.

Applicants: Tuana Springs Energy, LLC.

Description: Compliance filing per 35: Notice of Change in Status to be effective 4/1/2015.

Filed Date: 5/1/15.

Accession Number: 20150501-5002.

Comments Due: 5 p.m. ET 5/22/15.

Docket Numbers: ER15-1629-000.

Applicants: ISO New England Inc., NSTAR Electric Company.

Description: Compliance filing per 35: NSTAR Electric Company; Filing to Comply with FERC Audit Report to be effective 6/1/2015.

Filed Date: 5/1/15.

Accession Number: 20150501-5085.

Comments Due: 5 p.m. ET 5/22/15.

Docket Numbers: ER15-1630-000.

Applicants: US Borax, Inc.

Description: Initial rate filing per 35.12 Market-Based Rate Application to be effective 6/30/2015.

Filed Date: 5/1/15.

Accession Number: 20150501-5105.

Comments Due: 5 p.m. ET 5/22/15.

Docket Numbers: ER15-1631-000.

Applicants: NorthWestern Corporation.

Description: Tariff Withdrawal per 35.15: Notice of Cancellation of SA 717—Construction Agreement with Idaho Power Co to be effective 5/4/2015.

Filed Date: 5/1/15.

Accession Number: 20150501-5124.

Comments Due: 5 p.m. ET 5/22/15.

Docket Numbers: ER15-1632-000.

Applicants: Beech Ridge Energy LLC.

Description: Section 205(d) rate filing per 35.13(a)(2)(iii): Filing of Amended Assignment, Co-Tenancy, and Shared Facilities Agreement to be effective 7/1/2015.

Filed Date: 5/1/15.

Accession Number: 20150501-5134.

Comments Due: 5 p.m. ET 5/22/15.

Docket Numbers: ER15-1633-000.

Applicants: Beech Ridge Energy II LLC.

Description: Section 205(d) rate filing per 35.13(a)(2)(iii): Filing of Amended Assignment, Co-Tenancy, and Shared Facilities Agreement to be effective 7/1/2015.

Filed Date: 5/1/15.

Accession Number: 20150501-5135.

Comments Due: 5 p.m. ET 5/22/15.

Docket Numbers: ER15-1634-000.

Applicants: Beech Ridge Energy Storage LLC.

Description: Section 205(d) rate filing per 35.13(a)(2)(iii): Filing of Amended Assignment, Co-Tenancy, and Shared Facilities Agreement to be effective 7/1/2015.

Filed Date: 5/1/15.

Accession Number: 20150501-5136.

Comments Due: 5 p.m. ET 5/22/15.

Docket Numbers: ER15-1635-000.

Applicants: PJM Interconnection, L.L.C.

Description: Section 205(d) rate filing per 35.13(a)(2)(iii): Beech Ridge Energy Service Agreement 4118; Queue M24 to be effective 3/31/2015.

Filed Date: 5/1/15.

Accession Number: 20150501-5206.

Comments Due: 5 p.m. ET 5/22/15.

Docket Numbers: ER15-1636-000.

Applicants: Southern California Edison Company.

Description: Section 205(d) rate filing per 35.13(a)(2)(iii): Amended SGIA and Distribution Service Agreement with SEPV Palmdale East, LLC to be effective 5/2/2015.

Filed Date: 5/1/15.

Accession Number: 20150501-5220.

Comments Due: 5 p.m. ET 5/22/15.

Docket Numbers: ER15-1637-000.

Applicants: Bayonne Energy Center, LLC.

Description: Section 205(d) rate filing per 35.13(a)(2)(iii): Revised MBR Tariff re 784 to be effective 11/27/2013.

Filed Date: 5/1/15.

Accession Number: 20150501-5236.

Comments Due: 5 p.m. ET 5/22/15.

Docket Numbers: ER15-1638-000.

Applicants: Dynegy Conesville, LLC.

Description: Section 205(d) rate filing per 35.13(a)(2)(iii): Notices of Succession of Reactive Power Rate Schedules to be effective 4/2/2015.

Filed Date: 5/1/15.

Accession Number: 20150501-5266.

Comments Due: 5 p.m. ET 5/22/15.

Docket Numbers: ER15-1639-000.

Applicants: New England Power Pool Participants Committee.

Description: Section 205(d) rate filing per 35.13(a)(2)(iii): May 2015 Membership Filing to be effective 4/1/2015.

Filed Date: 5/1/15.

Accession Number: 20150501-5269.

Comments Due: 5 p.m. ET 5/22/15.

Docket Numbers: ER15-1640-000.

Applicants: Dynegy Dicks Creek, LLC.

Description: Section 205(d) rate filing per 35.13(a)(2)(iii): Notices of Succession of Reactive Power Rate Schedules to be effective 4/2/2015.

Filed Date: 5/1/15.

Accession Number: 20150501-5270.

Comments Due: 5 p.m. ET 5/22/15.

Docket Numbers: ER15-1641-000.

Applicants: Dynegy Fayette II, LLC.

Description: Section 205(d) rate filing per 35.13(a)(2)(iii): Notices of Succession of Reactive Power Rate Schedules to be effective 4/2/2015.

Filed Date: 5/1/15.

Accession Number: 20150501-5271.

Comments Due: 5 p.m. ET 5/22/15.

Docket Numbers: ER15-1642-000.

Applicants: Dynegy Hanging Rock II, LLC.

Description: Section 205(d) rate filing per 35.13(a)(2)(iii): Notices of Succession of Reactive Power Rate Schedules to be effective 4/2/2015.

Filed Date: 5/1/15.

Accession Number: 20150501-5272.

Comments Due: 5 p.m. ET 5/22/15.

Docket Numbers: ER15-1643-000.

Applicants: Dynegy Killen, LLC.

Description: Section 205(d) rate filing per 35.13(a)(2)(iii): Notices of Succession of Reactive Power Rate Schedules to be effective 4/2/2015.

Filed Date: 5/1/15.

Accession Number: 20150501-5273.

Comments Due: 5 p.m. ET 5/22/15.

Docket Numbers: ER15-1644-000.

Applicants: Dynegy Lee II, LLC.

Description: Section 205(d) rate filing per 35.13(a)(2)(iii): Notices of Succession of Reactive Power Rate Schedules to be effective 4/2/2015.

Filed Date: 5/1/15.

Accession Number: 20150501-5274.

Comments Due: 5 p.m. ET 5/22/15.

Docket Numbers: ER15-1645-000.

Applicants: Dynegy Miami Fort, LLC.

Description: Section 205(d) rate filing per 35.13(a)(2)(iii): Notices of Succession of Reactive Power Rate Schedules to be effective 4/2/2015.

Filed Date: 5/1/15.

Accession Number: 20150501-5275.

Comments Due: 5 p.m. ET 5/22/15.

Docket Numbers: ER15-1646-000.

Applicants: ISO New England Inc., New England Power Pool Participants Committee.

Description: Section 205(d) rate filing per 35.13(a)(2)(iii): Reliability Related Clean-up (Claim10Claim30) to be effective 6/1/2015.

Filed Date: 5/1/15.

Accession Number: 20150501-5277.

Comments Due: 5 p.m. ET 5/22/15.

Docket Numbers: ER15-1647-000.

Applicants: Dynegy Stuart, LLC.

Description: Section 205(d) rate filing per 35.13(a)(2)(iii): Notices of Succession of Reactive Power Rate Schedules to be effective 4/2/2015.

Filed Date: 5/1/15.

Accession Number: 20150501-5278.

Comments Due: 5 p.m. ET 5/22/15.

Docket Numbers: ER15-1648-000.

Applicants: Dynegy Washington II, LLC.

Description: Section 205(d) rate filing per 35.13(a)(2)(iii): Notices of Succession of Reactive Power Rate Schedules to be effective 4/2/2015.

Filed Date: 5/1/15.

Accession Number: 20150501-5280.

Comments Due: 5 p.m. ET 5/22/15.

Docket Numbers: ER15-1649-000.

Applicants: Dynegy Zimmer, LLC.

Description: Section 205(d) rate filing per 35.13(a)(2)(iii): Notices of Succession of Reactive Power Rate Schedules to be effective 4/2/2015.

Filed Date: 5/1/15.

Accession Number: 20150501-5281.

Comments Due: 5 p.m. ET 5/22/15.

Docket Numbers: ER15-1650-000.

Applicants: ISO New England Inc., New England Power Pool Participants Committee.

Description: Section 205(d) rate filing per 35.13(a)(2)(iii): Zonal Demand Curve to be effective 6/1/2015.

Filed Date: 5/1/15.

Accession Number: 20150501-5345.

Comments Due: 5 p.m. ET 5/22/15.

Docket Numbers: ER15-1651-000.

Applicants: Duke Energy Carolinas, LLC.

Description: Section 205(d) rate filing per 35.13(a)(2)(iii): OATT Amendment to Schedule 4 and Schedule 13 to be effective 6/30/2015.

Filed Date: 5/1/15.

Accession Number: 20150501-5372.

Comments Due: 5 p.m. ET 5/22/15.

Docket Numbers: ER15-1652-000.

Applicants: Pacific Gas and Electric Company.

Description: Section 205(d) rate filing per 35.13(a)(2)(iii): 5th Amendment to Extend the PG&E-SVP Interconnection Agreement to be effective 6/30/2015.

Filed Date: 5/1/15.

Accession Number: 20150501-5416.

Comments Due: 5 p.m. ET 5/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2015.
Kimberly D. Bose,
Secretary.

[FR Doc. 2015-10967 Filed 5-6-15; 8:45 am]

BILLING CODE 6717-01-P